NUCLEAR REGULATORY COMMISSION

[Docket No. 030-34325]

Notice of Availability of Environmental Assessment and Finding of No Significant Impact for License Amendment for Release of Facility for Unrestricted Use for the Department of Veterans Affairs Chicago Health Care System Lakeside Campus—Medical Sciences Building, Chicago, IL

AGENCY: Nuclear Regulatory Commission.

ACTION: Notice of availability.

FOR FURTHER INFORMATION CONTACT: William Snell, Senior Health Physicist, Decommissioning Branch, Division of Nuclear Material Safety, Region III, U.S. Nuclear Regulatory Commission, 2443 Warrenville Road, Lisle, Illinois 60532; telephone: (630) 829-9871; fax number: (630) 515-1259; e-mail: wgs@nrc.gov.

SUPPLEMENTARY INFORMATION:

I. Introduction

The Nuclear Regulatory Commission (NRC) is issuing a license amendment to Material License No. 03-23853-01VA issued to the Department of Veterans Affairs (DVA) (the licensee), to authorize release of its Chicago Health Care System, Lakeside Campus—Medical Sciences Building in Chicago, Illinois for unrestricted use, and has prepared an Environmental Assessment (EA) in support of this amendment in accordance with the requirements of 10 CFR part 51. Based on the EA, the NRC has concluded that a Finding of No Significant Impact (FONSI) is appropriate. The amendment will be issued following the publication of this notice.

II. EA Summary

The purpose of the proposed amendment is to allow for the release of the licensee's Chicago, Illinois facility for unrestricted use. The DVA has occupied the Chicago Health Care System, Lakeside Campus—Medical Sciences Building since 1978, and during that period was authorized to use byproduct, source, and special nuclear material for medical diagnosis, therapy, and research. The Chicago, Illinois facility is a permittee under the DVA NRC Master Material License (MML) Number 03-23853-01VA, and on October 1, 2004, requested the NRC release the facility for unrestricted use. The approval is consistent with a March 17, 2003, Letter of Understanding (LOU) between the NRC and DVA for DVA permittees. The LOU requires the DVA to submit for NRC review, permittee requests for the release of buildings for unrestricted use where radioactive materials with a half-life greater than 120 days were used. The DVA identified four isotopes with half-lives greater than 120 days that it used in the Medical Sciences Building: hydrogen-3, carbon-14, sodium-22, and chlorine-36. The DVA has conducted surveys of the facility and provided information to the NRC to demonstrate that the site meets the licensee termination criteria in subpart E of 10 CFR part 20 for unrestricted release.

The staff has prepared an EA in support of the proposed license amendment. Based on its review, the staff determined there were no radiological or non-radiological environmental impacts associated with the action since no radiological remediation activities were required to complete the proposed action. The staff has determined that the proposed action is administrative and/or procedural in nature and will not affect listed species or critical habitat. Likewise, NRC staff has determined that the proposed action is not the type of activity that has the potential to cause effects on historic properties because it is an administrative and/or procedural action.

III. Finding of No Significant Impact

The staff has prepared an EA in support of the proposed license amendment to release the site for unrestricted use. The staff has found that the radiological environmental impacts from the proposed amendment are bounded by the impacts evaluated by NUREG-1496, Volumes 1-3, “Generic Environmental Impact Statement in Support of Rulemaking on Radiological Criteria for License Termination of NRC-Licensed Facilities'' (ML042310492, ML042320379, and ML042330385). The staff has also found that the non-radiological impacts are not significant. On the basis of the EA, NRC has concluded that there are no significant environmental impacts from the proposed amendment and has determined not to prepare an environmental impact statement.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are: the DVA letter dated October 1, 2004 (Accession No. ML042920457); the Final Status Survey Report, VA Chicago—Lakeside Campus, Medical Sciences Building, September 9, 2004 (Accession No. ML042920463); and the EA summarized above (Accession No. ML043010491). Please note that on October 25, 2004, the NRC terminated public access to ADAMS and initiated an additional security review of publicly available documents to ensure that potentially sensitive information is removed from the ADAMS database accessible through the NRC's web site. Interested members of the public may obtain copies of the referenced documents for review and/or copying by contacting the Public Document Room pending resumption of public access to ADAMS. The NRC Public Documents Room is located at NRC Headquarters in Rockville, MD, and can be contacted at (800) 397-4209, (301) 415-4737 or by e-mail to pdr@nrc.gov.

These documents may also be viewed electronically on the public computers located at the NRC's PDR, O 1 F21, One White Flint North, 11555 Rockville Pike, Rockville, MD 20852. The PDR reproduction contractor will copy documents for a fee.

Dated in Lisle, Illinois, this 4th day of November 2004.
For the Nuclear Regulatory Commission,
Kenneth G. O'Brien,
Chief, Decommissioning Branch, Division of Nuclear Materials Safety, Region III.

[FR Doc. 04-25258 Filed 11-12-04; 8:45 am]

BILLING CODE 7590-01-P